DEPARTMENT OF TRANSPORTATION

Federal Aviation Administration

14 CFR Part 71

[Docket No. FAA-2017-1043; Airspace Docket No. 17-AEA-18]

RIN 2120-AA66

Amendment of Class E Airspace; Bloomsburg, PA

AGENCY: Federal Aviation Administration (FAA), DOT.

ACTION: Final rule, correction.

SUMMARY: This action corrects a final rule published in the Federal Register on September 11, 2018 (corrected November 6, 2018), Class E airspace extending upward from 700 feet or more above the surface at Bloomsburg Municipal Airport, Bloomsburg, PA. The airport's description header identified the region as “ASO”. The correct region identifier is “AEA”.

DATES: Effective 0901 UTC, June 20, 2019. The Director of the Federal Register approves this incorporation by reference action under Title 1 Code of Federal Regulations part 51, subject to the annual revision of FAA Order 7400.11 and publication of conforming amendments.

FOR FURTHER INFORMATION CONTACT: John Fornito, Operations Support Group, Eastern Service Center, Federal Aviation Administration, 1701 Columbia Ave., College Park, GA 30337; telephone (404) 305-6364.

SUPPLEMENTARY INFORMATION:

History

The FAA published a final rule in the Federal Register (83 FR45814, September 11, 2018; corrected 83 FR 55479, November 6, 2018) for Doc. No. FAA-2017-1043, amending Class E airspace extending upward from 700 feet or more above the surface at Bloomsburg Municipal Airport, Bloomsburg, PA. Subsequent to publication, the FAA found that the description header listed the region of the airport as “ASO”. This action corrects the error.

Class E airspace designations are published in paragraph 6005, of FAA Order 7400.11C, dated August 13, 2018, and effective September 15, 2018, which is incorporated by reference in 14 CFR part 71.1. The Class E airspace designations listed in this document will be published subsequently in the Order.

Correction to Final Rule

Accordingly, pursuant to the authority delegated to me, in the Federal Register of September 11, 2018 (83 FR 45814; corrected November 6, 2018 (83 FR 55479)) FR Doc. 2018-19489, Amendment of Class E Airspace; Bloomsburg, PA, is corrected as follows:

§ 71.1 [Amended]

* * * * *

ASO AL E5 Bloomsburg, PA [Corrected]

On page 45815, column 2, line 29, remove “ASO” and add in its place “AEA”.

Issued in College Park, Georgia, on May 9, 2019,
Ryan W. Almasy,
Manager, Operations Support Group, Eastern Service Center, Air Traffic Organization.

[FR Doc. 2019-10170 Filed 5-16-19; 8:45 am]

BILLING CODE 4910-13-P